DEPARTMENT OF LABOR

Employment and Training Administration

[TA-W-54,827]

Harris Fresh LLC, Coalinga, CA; Notice of Termination of Investigation

Pursuant to section 221 of the Trade Act of 1974, as amended, an investigation was initiated on April 30, 2004 in response to a petition filed by a company official on behalf of workers at Harris Fresh LLC, Coalinga, California.

The petitioner has requested that the petition be withdrawn. Consequently, the investigation has been terminated.

Signed at Washington, DC this 10th day of May, 2004.
Linda G. Poole,
Certifying Officer, Division of Trade Adjustment Assistance.

[FR Doc. 04-12631 Filed 6-3-04; 8:45 am]

BILLING CODE 4510-30-P